SMALL BUSINESS ADMINISTRATION

[License No. 02/72-0623]

Zon Capital Partners, L.P.; Notice Seeking Exemption Under Section 312 of the Small Business Investment Act, Conflicts of Interest

Notice is hereby given that Zon Capital Partners, L.P. (“Zon”), 5 Vaughn Drive, Suite 104, Princeton, New Jersey 08540, a Federal Licensee under the Small Business Investment Act of 1958, as amended (“the Act”), in connection with the proposed financing of a small concern is seeking an exemption under section 312 of the Act and § 107.730, Financings which Constitute Conflicts of Interest of the Small Business Administration (“SBA”) Rules and Regulations (13 CFR 107.730 (2002)). Zon proposes to provide equity financing to HR Technologies, 2700 Westchester Avenue, Purchase, New York 10577. The financing is contemplated for funding growth and acquisitions.

The financing is brought within the purview of § 107.730(a)(1) of the Regulations because Early Stage Enterprises L.P., an Associate of Zon, owns greater than 10 percent of HRT and therefore HRT is considered an Associate of Zon as defined in § 107.50 of the Regulations.

Notice is hereby given that any interested person may, not later than fifteen (15) days from the date of publication of this notice, submit written comments on the proposed transaction to the Associate Administrator for Investment, U.S. Small Business Administration, 409 Third Street, SW., Washington, DC 20416.

A copy of this notice shall be published, in accordance with § 107.730 (g), in the Federal Register by SBA.

Dated: June 6, 2003.
Jeffrey D. Pierson,
Associate Administrator for Investment.

[FR Doc. 03-14854 Filed 6-11-03; 8:45 am]

BILLING CODE 8025-01-P